DEPARTMENT OF STATE

[Public Notice: 11634]

Waiver of Missile Proliferation Sanctions Against Foreign Persons

ACTION: Notice.

SUMMARY: A determination has been made pursuant to the Arms Export Control Act and Export Administration Act.

SUPPLEMENTARY INFORMATION: Consistent with section 654(c) of the Foreign Assistance Act of 1961, as amended, notice is hereby given that the Secretary of State has made a determination pursuant to Section 73 of the Arms Export Control Act (22 U.S.C. 2797b) and Section 11B(b) of the Export Administration Act of 1979 (50 U.S.C. 4612). [Note: Although the Export Administration Act of 1979 lapsed in 2001 and was partially repealed in 2018, authorities under Section 11B continue to be carried out under the International Emergency Economic Powers Act, 50 U.S.C. 1701-1708, pursuant to the emergency declared in E.O. 13222 of August 17, 2001, which has been kept in effect by successive Presidential Notices, the most recent of which was the Notice of August 6, 2021, 86 FR 43901, (Aug. 10, 2021).] The Secretary of State has concluded that publication of the determination would be harmful to the national security of the United States.

Choo S. Kang,
Acting Assistant Secretary, International Security and Nonproliferation, Department of State.

[FR Doc. 2022-01116 Filed 1-20-22; 8:45 am]

BILLING CODE 4710-25-P